INTERNATIONAL TRADE COMMISSION

[USITC SE-18-008]

Sunshine Act Meetings

AGENCY HOLDING THE MEETING: United States International Trade Commission.

TIME AND DATE: February 12, 2018 at 11:00 a.m.

PLACE: Room 101, 500 E Street SW, Washington, DC 20436, Telephone: (202) 205-2000.

STATUS: Open to the public.

MATTERS TO BE CONSIDERED:

1. Agendas for future meetings: None.

2. Minutes.

3. Ratification List.

4. Vote in Inv. Nos. 701-TA-388, 389, and 391 and 731-TA-817, 818, and 821 (Third Review) (Cut-to-Length Carbon-Quality Steel Plate from India, Indonesia, and Korea). The Commission is currently scheduled to complete and file its determinations and views of the Commission by February 26, 2018.

5. Outstanding action jackets: None.

In accordance with Commission policy, subject matter listed above, not disposed of at the scheduled meeting, may be carried over to the agenda of the following meeting.

By order of the Commission.
Issued: February 5, 2018.
William R. Bishop,
Supervisory Hearings and Information Officer.

[FR Doc. 2018-02620 Filed 2-6-18; 4:15 pm]

BILLING CODE 7020-02-P